DEPARTMENT OF DEFENSE

Office of the Secretary

Defense Advisory Committee on Investigation Prosecution and Defense of Sexual Assault in the Armed Forces; Notice of Federal Advisory Committee Meeting

AGENCY: General Counsel of the Department of Defense, Department of Defense.

ACTION: Notice of Federal Advisory Committee meeting.

SUMMARY: The Department of Defense (DoD) is publishing this notice to announce that the following Federal Advisory Committee meeting of the Defense Advisory Committee on Investigation Prosecution and Defense of Sexual Assault in the Armed Forces will take place.

DATES: Open to the public, Friday, April 28, 2017, from 10:00 a.m. to 5:15 p.m.

ADDRESSES: One Liberty Center, 875 N. Randolph Street, Suite 1432, Arlington, Virginia 22203.

FOR FURTHER INFORMATION CONTACT: Dwight Sullivan, 703-695-1055 (Voice), 703-693-3903 (Facsimile), dwight.h.sullivan.civ@mail.mil (Email). Mailing address is DACIPAD, One Liberty Center, 875 N. Randolph Street, Suite 150, Arlington, Virginia 22203. Web site: http://dacipad.whs.mil/. The most up-to-date changes to the meeting agenda can be found on the Web site.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

For information contact Ms. Julie Carson, DAC-IPAD, One Liberty Center, 875 N. Randolph Street, Suite 150, Arlington, Virginia 22203. Email: whs.pentagon.em.mbx.dacipad@mail.mil. Phone: (703) 693-3849. Web site: http://dacipad.whs.mil. A copy of the meeting agenda and any updates or changes to the agenda, including the location and individual speakers not identified at the time of this notice, as well as other materials provided to Committee members for use at the public meeting, may be obtained at the meeting or from the DAC-IPAD Web site. The Committee's Designated Federal Official is Mr. Dwight Sullivan, Associate Deputy General Counsel for Military Justice, U.S. Department of Defense, 1600 Defense Pentagon, Room 3B747, Washington, DC 20301-1600.

Purpose of the Meeting: In section 546 of the National Defense Authorization Act for Fiscal Year 2015 (Pub. L. 113-291), as modified by section 537 of the National Defense Authorization Act for Fiscal Year 2016 (Pub. L. 114-92), Congress tasked the DAC-IPAD to advise the Secretary of Defense on the investigation, prosecution, and defense of allegations of rape, forcible sodomy, sexual assault, and other sexual misconduct involving members of the Armed Forces. This will be the second public meeting held by the DAC-IPAD. At this meeting, the Committee will receive a presentation on the mechanics of a sexual assault case from reporting to referral followed by a briefing from the Department of Defense Office of Sexual Assault Prevention and Response on its annual sexual assault reporting data. The Committee will conclude the meeting with a strategic planning session.

Agenda

8:30 a.m.-10:00 a.m. Administrative Work (41 CFR 102-3.160, not subject to notice & open meeting requirements)

10:00 a.m.-10:15 a.m. Welcome and Introduction

10:15 a.m.-12:15 p.m. Presentation on the Mechanics of a Sexual Assault Case from Reporting to Referral

—The Judge Advocate General's Legal Center and School, Criminal Law Department Faculty

12:15 p.m.-1:00 p.m. Lunch

1:00 p.m.-2:00 p.m. Presentation on the Mechanics of a Sexual Assault Case from Reporting to Referral (Cont.)

—The Judge Advocate General's Legal Center and School, Criminal Law Department Faculty

2:00 p.m.-4:00 p.m. Briefing on Department of Defense Annual Sexual Assault Reporting Data

—Dr. Nathan Galbreath, Acting Director, Sexual Assault Prevention and Response Office (SAPRO), U.S. Department of Defense

4:00 p.m.-5:00 p.m. DAC-IPAD Strategic Planning Session

5:00 p.m.-5:15 p.m. Public Comment

5:15 p.m. Meeting Adjourned

Meeting Accessibility: Pursuant to 5 U.S.C. 552b and 41 CFR 102-3.140 through 102-3.165, and the availability of space, this meeting is open to the public. Seating is limited and is on a first-come basis. Visitors are required to sign in at the One Liberty Center security desk and must leave government-issued photo identification on file while in the building. Department of Defense Common Access Card (CAC) holders who do not have authorized access to One Liberty Center must provide an alternate form of government-issued photo identification to leave on file with security while in the building. All visitors must pass through a metal detection security screening. In the event the Office of Personnel Management closes the government due to inclement weather or for any other reason, please consult the Web site for any changes to the public meeting date or time. Individuals requiring special accommodations to access the public meeting should contact the DAC-IPAD at whs.pentagon.em.mbx.dacipad@mail.mil at least five (5) business days prior to the meeting so that appropriate arrangements can be made.

Written Statements: Pursuant to 41 CFR 102-3.140 and section 10(a)(3) of the Federal Advisory Committee Act of 1972, the public or interested organizations may submit written comments to the Committee about its mission and topics pertaining to this public session. Written comments must be received by the DAC-IPAD at least five (5) business days prior to the meeting date so that they may be made available to the Committee members for their consideration prior to the meeting. Written comments should be submitted via email to the DAC-IPAD at whs.pentagon.em.mbx.dacipad@mail.mil in the following formats: Adobe Acrobat or Microsoft Word. Please note that since the DAC-IPAD operates under the provisions of the Federal Advisory Committee Act, as amended, all written comments will be treated as public documents and will be made available for public inspection. If members of the public are interested in making an oral statement pertaining to the agenda for the public meeting, a written statement must be submitted as above along with a request to provide an oral statement. After reviewing the written comments and the oral statement, the Chair and the Designated Federal Official will determine who will be permitted to make an oral presentation of their issue during the public comment portion of this meeting. This determination is at the sole discretion of the Chair and Designated Federal Official, will depend on the time available and relevance to the Committee's activities for that meeting, and will be on a first-come basis. When approved in advance, oral presentations by members of the public will be permitted from 5:00 p.m. to 5:15 p.m. on April 28, 2017, in front of the Committee members.

Dated: April 10, 2017.
Aaron Siegel,
Alternate OSD Federal Register Liaison Officer, Department of Defense.

[FR Doc. 2017-07515 Filed 4-12-17; 8:45 am]

BILLING CODE 5001-06-P